FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 14, 2012.

A. Federal Reserve Bank of Chicago (Colette A. Fried, Assistant Vice President) 230 South LaSalle Street, Chicago, Illinois 60690-1414:

1. The Patricia I. Walsh Trust, Patricia I. Walsh as trustee, and Mark J. Walsh, both of River Forest, Illinois; Richard A. Walsh, La Grange, Illinois; Katherine Walsh Hennessy, and Patrick M. Walsh, both of Chicago, Illinois; Anne E. Walsh, and Brian J. Walsh, both of Forest Park, Illinois; together as a group acting in concert, to acquire voting shares of Rush-Oak Corporation, and thereby indirectly acquire voting shares of Oak Bank, both in Chicago, Illinois.

B. Federal Reserve Bank of Minneapolis (Jacqueline G. King, Community Affairs Officer) 90 Hennepin Avenue, Minneapolis, Minnesota 55480-0291:

1. Bryan Bruns, Annandale, Minnesota; to acquire voting shares of Lake Central Financial, Inc., and thereby indirectly acquire voting shares of Annandale State Bank, both in Annandale, Minnesota.

In addition, Dwight and Leonetta Bruns, Dean and Cheryl Bruns, and Ricky and Renee Walberg, all of Annandale, Minnesota, have applied to acquire voting shares and thereby join the Bruns Family Group, a group acting in concert, which controls Lake Central Financial, Inc., Annandale, Minnesota.

C. Federal Reserve Bank of Kansas City (Dennis Denney, Assistant Vice President) 1 Memorial Drive, Kansas City, Missouri 64198-0001:

1. Paul E. Nielsen and Patricia I. Nielsen Revocable Trust, and Patricia I. Nielsen, trustee, all of Albuquerque, New Mexico; to retain control of Alamosa Bancorporation, Ltd., and thereby indirectly retain control of Alamosa State Bank, both in Alamosa, Colorado.

Board of Governors of the Federal Reserve System, January 25, 2012.
Jennifer J. Johnson,
Secretary of the Board.

[FR Doc. 2012-1926 Filed 1-27-12; 8:45 am]

BILLING CODE 6210-01-P